DEPARTMENT OF HEALTH AND HUMAN SERVICES

National Institutes of Health

National Institute of Diabetes and Digestive and Kidney Diseases; Notice of Meeting

Pursuant to section 429 [285c-3] of the Public Health Service Act (Pub. L. 95-158), notice is hereby given of a meeting of the statutory Diabetes Mellitus Interagency Coordinating Committee.

The meeting will be open to the public as indicated below, with attendance limited to space available. Individuals who plan to attend and need special assistance, such as sign language interpretation or other reasonable accommodations, should notify the Contact Person listed below in advance of the meeting.

Name of Committee: Diabetes Mellitus Interagency Coordinating Committee.

Date: September 18, 2006.

Open: September 18, 2006, 9 a.m. to 3 p.m.

Agenda: Psychoactive Drugs and Type 2 Diabetes.

Place: National Institutes of Health, 9000 Rockville Pike, Building 45, Conference Rooms E1/E2.

Contact Person: Sanford A. Garfield, PhD, Senior Advisor, Biometrics and Behavioral Science, National Institute of Diabetes and Digestive and Kidney Diseases, National Institutes of Health, PHS, DHHS, 6707 Democracy Blvd, Room 685, Bethesda, MD 20892, 301-594-8803, Garfields@extra.niddk.nih.gov.

Information is also available on the Institute's/Center's Web site: http://www.niddk.nih.gov/federal/dmicc.htm, where an agenda and any additional information for the meeting will be posted when available. For logistics and updated information not available on the Web site, contact Maria Smith, The Scientific Consulting Group, Inc., contractor for the DMICC, at msmith@scgcorp.com.

Please note: In the interest of security, NIH has instituted stringent procedures for entrance into the building by non-government employees. Persons without a government I.D. will need to show a photo I.D. and sign in at the security desk upon entering the building. Visitors may be required to pass through a metal detector and have bags, backpacks, or purses inspected or x-rayed as they enter NIH buildings. For more information about the new security measures at NIH, please visit the Web site at http://www.nih.gov/about/visitorsecurity.htm.

Dated: July 20, 2006.
Sanford A. Garfield,
Senior Advisor, National Institute of Diabetes and Digestive and Kidney Diseases, National Institutes of Health.

[FR Doc. E6-12046 Filed 7-26-06; 8:45 am]

BILLING CODE 4140-01-P